DEPARTMENT OF AGRICULTURE

Submission for OMB Review; Comment Request

August 24, 2012.

The Department of Agriculture will submit the following information collection requirement(s) to OMB for review and clearance under the Paperwork Reduction Act of 1995, Public Law 104-13 on or after the date of publication of this notice. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; OIRA_Submission@OMB.EOP.GOV or fax (202) 395-5806 and to Departmental Clearance Office, USDA, OCIO, Mail Stop 7602, Washington, DC 20250-7602.

DATES: Comments regarding these information collections are best assured of having their full effect if received by October 1, 2012. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Agricultural Marketing Service

Title: Reporting Requirements under Regulations Governing Inspection and Grading Services of Manufactured or Processed Dairy Products.

OMB Control Number: 0581-0126.

Summary of Collection: The Agricultural Marketing Act (AMA) of 1946 (7 U.S.C. 1621-1627), directs and authorizes the Department to develop standards of quality, condition, quantity, grading programs, and services to enable a more orderly marketing of agricultural products. The Government, industry and consumer will be well served if the Government can help insure that dairy products are produced under sanitary conditions and that buyers have the choice of purchasing the quality of the product they desire. The dairy grading program is a voluntary user fee program. In order for a voluntary inspection program to perform satisfactorily with a minimum of confusion, information must be collected to determine what services are requested.

Need and Use of the Information: The information collected is used to identify the product offered for grading, to identify and contact the individuals responsible for payment of the grading fee and to identify the person responsible for administering the grade label program. The Agriculture Marketing service will use several forms to collect essential information to carry out and administer the inspection and grading program.

Description of Respondents: Business or other for profit.

Number of Respondents: 400.

Frequency of Responses: Reporting: On occasion.

Total Burden Hours: 364.

Agricultural Marketing Service

Title: National Processed Raspberry Promotion, Research and Information Program.

OMB Control Number: 0581-0258.

Summary of Collection: The Processed Raspberry Promotion, Research, and Information Order (7 CFR part 1208) was established under the Commodity Promotion, Research, and Information Act of 1996, (Act) (7 U.S.C. 7411-7425). The program consists of projects relating to research, consumer information, advertising, sales promotion, producer information, market development and product research to assist, improve, or promote the marketing, distribution, and utilization of processed raspberries. The program is administered by a Council appointed by the Secretary of Agriculture and financed by a mandatory assessment on producers and importers of processed raspberries.

Need and Use of the Information: The Agricultural Marketing Service will use several forms to collect the necessary information. The forms require the minimum information necessary to carry out the intent of the Act. The objective in carrying out this responsibility includes assuring the following: (1) Funds are collected and properly accounted for; (2) expenditures of all funds are for the purposes authorized by the Act and Order; and (3) the council's administration of the programs conforms to USDA policy.

Description of Respondents: Producers, first handlers, importers, foreign producers, and at-large nominees.

Number of Respondents: 297.

Frequency of Responses: Reporting: On occasion; Weekly; Quarterly; Recordkeeping.

Total Burden Hours: 282.

Agricultural Marketing Service

Title: National Organic Program; NOP Import Certificate.

OMB Control Number: 0581-0280.

Summary of Collection: The National Organic Program (NOP) is authorized by the Organic Foods Production Act of 1990, as amended, (7 U.S.C. 6501 et seq.). Under 7 CFR 205.500(c)(2) of the NOP regulations, the Department of Agriculture will accept a foreign certifying agent's accreditation to certify organic production or handling operations if the foreign government authority that accredited the foreign certifying agent acted under an equivalency agreement negotiated between the United States and the foreign government. On February 12, 2012 the U.S. and the European Union (EU) finalized an equivalence arrangement that became effective on June 1, 2012.

Need and Use of the Information: Organic products certified to the USDA organic standards or EU organic standards may be sold, labeled, and represented as organic in both countries as long as the terms of the arrangement are met. Organic products exported for sale to the U.S. must be accompanied by an NOP Import Certificate. EU designated certification entities will issue NOP Import Certificates for each shipment of organic product from the EU to the U.S. The NOP Import Certificate is necessary to document that the organic products were certified under the EU organic regulations and meet all the requirements specified in the EU-U.S. organic equivalency arrangement.

Description of Respondents: EU Designated Certification Entities.

Number of Respondents: 205.

Frequency of Responses: Reporting: On Occasion; Recordkeeping.

Total Burden Hours: 1,091.

Charlene Parker,
Departmental Information Collection Clearance Officer.

[FR Doc. 2012-21377 Filed 8-29-12; 8:45 am]

BILLING CODE 3410-02-P